DEPARTMENT OF HEALTH AND HUMAN SERVICES

Administration for Children and Families

Proposed Information Collection Activity; ACF-196P, TANF Pandemic Emergency Assistance Fund (PEAF) Financial Report for States, Territories and Tribes (0970-0510)

AGENCY: Office of Family Assistance, Administration for Children and Families, Health and Human Services (HHS).

ACTION: Request for public comment.

SUMMARY: The Administration for Children and Families' (ACF) Office of Family Assistance plans to submit a generic information collection (GenIC) request under the umbrella generic: Generic Clearance for Financial Reports used for ACF Mandatory Grant Programs (0970-0510). This request includes a reporting form and associated instructions for financial information to be completed by grant recipients of Temporary Assistance for Needy Families (TANF) Pandemic Emergency Assistance Funding authorized by the American Rescue Plan Act of 2021.

DATES: Comments due within 14 days of publication. In compliance with the requirements of the Paperwork Reduction Act of 1995, ACF is soliciting public comment on the specific aspects of the information collection described above and below.

ADDRESSES: Copies of the proposed collection of information can be obtained and comments may be submitted by emailing infocollection@acf.hhs.gov. All requests should be identified by the title of the information collection.

SUPPLEMENTARY INFORMATION: Description: ACF programs require detailed financial information from their grantees that allows ACF to monitor various specialized cost categories within each program, to closely manage program activities, and to have sufficient financial information to enable periodic thorough and detailed audits. The Generic Clearance for Financial Reports used for ACF Mandatory Grant Programs allows ACF programs to efficiently develop and receive approval for financial reports that are tailored to specific funding recipients and the associated needs of the program. For more information about the umbrella generic, see: https://www.reginfo.gov/public/do/PRAViewDocument?ref_nbr=202108-0970-002.

This specific GenIC applies to all state, territory, and tribal grantees awarded TANF Pandemic Emergency Assistance Funding as authorized by the American Rescue Plan Act of 2021 (Pub. L. 117-2). Section 403(c)(6)(A) of the Social Security Act was augmented by the passage of Public Law 117-2 with this opportunity for funding to provide non-recurrent, short term benefits and associated administrative costs to supplement, but not supplant, other federal, state, tribal, territorial, or local funds in meeting the emergency needs of recipients. These federal funds will serve as payment for expenditures incurred from April 1, 2021, to September 30, 2022, and if available, any unspent funds will be reallotted and available for expenditure for another 12 months.

All grantees must complete reporting once a year in accordance with Office of Family Assistance program policy governing the administration of PEAF Statute. The accompanying instructions and terms and conditions of the grant will provide guidance and assist grantees with this requirement.

Respondents: States, Territories, Tribes, and Tribal Consortia awarded TANF Pandemic Emergency Assistance Funding funds authorized by the American Rescue Plan Act of 2021.

Annual Burden Estimates
Title of information collection | Number of respondents | Annual frequency of responses | Hourly burden per response | Annual hourly burden
ACF-196P | 137 | 1 | 6 | 822

Estimated Total Annual Burden Hours: 822.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 14 days of this publication.

Authority: Pub. L. 117-2; Section 403(c)(6)(A) of the American Rescue Plan Act of 2021.

Mary B. Jones,
ACF/OPRE Certifying Officer.

[FR Doc. 2021-19459 Filed 9-7-21; 8:45 am]

BILLING CODE 4184-56-P